DEPARTMENT OF TRANSPORTATION

Federal Aviation Administration

14 CFR Part 27

[Docket No. FAA-2020-1102; Notice No. 27-052-SC]

Special Conditions: Garmin International, Inc., Bell Textron Canada Limited Model 505 Helicopter, Visual Flight Rules Autopilot and Stability Augmentation System

AGENCY: Federal Aviation Administration (FAA), DOT.

ACTION: Final special conditions; request for comments; correction.

SUMMARY: The FAA is correcting special conditions, which published in the Federal Register on December 11, 2020. The special conditions issued for the Bell Textron Canada Limited Model 505 helicopter did not include an effective date. This correction adds an effective date for the special conditions.

DATES: The effective date for the special conditions published December 11, 2020, at 85 FR 79826, is December 22, 2020. Comments will continue to be received until January 11, 2021.

ADDRESSES: Send comments identified by Docket No. FAA-2020-1102 using any of the following methods:

• Federal eRegulations Portal: Go to http://www.regulations.gov/ and follow the online instructions for sending your comments electronically.

• Mail: Send comments to Docket Operations, M-30, U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: Except for Confidential Business Information (CBI) as described in the following paragraph, and other information as described in 14 CFR 11.35, the FAA will post all comments it receives, without change, to http://www.regulations.gov/, including any personal information the commenter provides. Using the search function of the docket website, anyone can find and read the electronic form of all comments received into any FAA docket, including the name of the individual sending the comment (or signing the comment for an association, business, labor union, etc.). DOT's complete Privacy Act Statement can be found in the Federal Register published on April 11, 2000 (65 FR 19477-19478).

Confidential Business Information: CBI is commercial or financial information that is both customarily and actually treated as private by its owner. Under the Freedom of Information Act (FOIA) (5 U.S.C. 552), CBI is exempt from public disclosure. If your comments responsive to these special conditions contain commercial or financial information that is customarily treated as private, that you actually treat as private, and that is relevant or responsive to these special conditions, it is important that you clearly designate the submitted comments as CBI. Please mark each page of your submission containing CBI as “PROPIN.” The FAA will treat such marked submissions as confidential under the FOIA, and they will not be placed in the public docket of these special conditions. Submissions containing CBI should be sent to Andy Shaw, Continued Operational Safety Section, AIR-682, Rotorcraft Standards Branch, Policy and Innovation Division, Aircraft Certification Service, Federal Aviation Administration, 10101 Hillwood Pkwy., Fort Worth, TX 76177; telephone (817) 222-5384. Any commentary that the FAA receives which is not specifically designated as CBI will be placed in the public docket for this rulemaking.

Docket: Background documents or comments received may be read at http://www.regulations.gov/ at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Andy Shaw, Continued Operational Safety Section, AIR-682, Rotorcraft Standards Branch, Policy and Innovation Division, Aircraft Certification Service, Federal Aviation Administration, 10101 Hillwood Pkwy., Fort Worth, TX 76177; telephone (817) 222-5384; email Andy.Shaw@faa.gov.

SUPPLEMENTARY INFORMATION: On December 11, 2020, the FAA issued Special Conditions No. 27-052-SC, under Docket No. FAA-2020-1102. Those special conditions were published in the Federal Register on December 11, 2020 (85 FR 79826). Those special conditions pertain to the Bell Textron Canada Limited Model 505 helicopter, as modified by Garmin International, Inc., with the installation of an autopilot and stability augmentation system. The effective date was inadvertently omitted from the final special conditions. This correction includes the effective date for those special conditions. There are no substantive changes to the document.

Issued in Fort Worth, Texas.
Jorge Castillo,
Manager, Rotorcraft Standards Branch, Policy and Innovation Division, Aircraft Certification Service.

[FR Doc. 2020-28325 Filed 12-18-20; 11:15 am]

BILLING CODE 4910-13-P